DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: March 15, 2018, 10:00 a.m.

PLACE: Room 2C, 888 First Street NE, Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's website at http://ferc.capitolconnection.org/ using the eLibrary link, or may be examined in the Commission's Public Reference Room.

1041st—Meeting
[Regular meeting; March 15, 2018; 10:00 a.m.]
Item No. | Docket No. | Company
ADMINISTRATIVE
A-1 | AD18-1-000 | Agency Administrative Matters.
A-2 | AD18-2-000 | Customer Matters, Reliability, Security and Market Operations.
ELECTRIC
E-1 | RM18-12-000 | Inquiry Regarding the Effect of the Tax Cuts and Jobs Act on Commission-Jurisdictional Rates.
E-2 | EL18-72-000 | Alcoa Power Generating Inc.-Long Sault Division.
| EL18-73-000 | Alcoa Power Generating Inc.-Tapoco Division.
| EL18-75-000 | Avista Corporation.
| EL18-76-000 | Black Hills/Colorado Electric Utility Company, L.P.
| EL18-77-000 | Central Hudson Gas & Electric Corporation.
| EL18-79-000 | Cheyenne Light, Fuel and Power Company.
| EL18-89-000 | Consolidated Edison Company of New York, Inc.
| EL18-90-000 | Cube Yadkin Transmission LLC.
| EL18-91-000 | DATC Path 15, LLC.
| EL18-93-000 | Deseret Generation and Transmission Co-operative, Inc.
| EL18-95-000 | El Paso Electric Company.
| EL18-96-000 | Electric Energy, Inc.
| EL18-97-000 | Essential Power Rock Springs, LLC.
| EL18-98-000 | Florida Power & Light Company.
| EL18-101-000 | Monongahela Power Company.
|  | Potomac Edison Company.
|  | West Penn Power Company.
| EL18-102-000 | Nevada Power Company.
|  | Sierra Pacific Power Company.
| EL18-103-000 | New York State Electric & Gas Corporation.
| EL18-104-000 | NorthWestern Corporation.
| EL18-105-000 | Ohio Valley Electric Corporation.
| EL18-107-000 | Orange & Rockland Utilities, Inc.
| EL18-108-000 | Pacific Gas and Electric Company.
| EL18-109-000 | Portland General Electric Company.
| EL18-110-000 | Rochester Gas and Electric Corporation.
| EL18-111-000 | Rockland Electric Company.
| EL18-112-000 | Sky River LLC.
| EL18-113-000 | Smoky Mountain Transmission LLC.
| EL18-115-000 | Startrans, IO, LLC.
| EL18-117-000 | The Dayton Power & Light Company.
| EL18-118-000 | Trans Bay Cable LLC.
| EL18-119-000 (not consolidated) | Tucson Electric Power Company.
E-3 | EL18-62-000 | AEP Appalachian Transmission Company, Inc.
|  | AEP Indiana Michigan Transmission Company, Inc.
|  | AEP Kentucky Transmission Company, Inc.
|  | AEP Ohio Transmission Company, Inc.
|  | AEP West Virginia Transmission Company, Inc.
| EL18-63-000 | AEP Oklahoma Transmission Company, Inc.
|  | AEP Southwestern Transmission Company, Inc.
| EL18-64-000 | Baltimore Gas and Electric Company.
| EL18-65-000 | Black Hills Power, Inc.
| EL18-66-000 | Citizens Sunrise Transmission LLC.
| EL18-67-000 | San Diego Gas & Electric Company.
| EL18-68-000 | Transource Maryland, LLC.
| EL18-69-000 | Transource Pennsylvania, LLC.
| EL18-70-000 | Transource West Virginia, LLC.
| EL18-71-000 (not consolidated) | UNS Electric, Inc.
E-4 | EL18-20-000 | Indicated SPP Transmission Owners v. Southwest Power Pool, Inc.
E-5 | EC17-126-000 | South Central MCN LLC.
E-6 | ER18-99-000 | Southwest Power Pool, Inc.
E-7 | ER18-840-000 | Public Service Company of Colorado.
E-8 | ER18-783-000 | MISO Transmission Owners.
E-9 | OMITTED.
E-10 | EL10-65-005 | Louisiana Public Service Commission v. Entergy Corporation.
|  | Entergy Services, Inc.
|  | Entergy Louisiana, LLC.
|  | Entergy Arkansas, Inc.
|  | Entergy Mississippi, Inc.
|  | Entergy New Orleans, Inc.
|  | Entergy Gulf States Louisiana, L.L.C.
|  | Entergy Texas, Inc.
| ER14-2085-001, ER11-3658-001, ER12-1920-001, ER13-1595-001, (consolidated) | Entergy Services, Inc.
GAS
G-1 | RM18-11-000 | Interstate and Intrastate Natural Gas Pipelines; Rate Changes Relating to Federal Income Tax Rate.
G-2 | PL17-1-000 | Inquiry Regarding the Commission's Policy for Recovery of Income Tax Costs.
G-3 | IS08-390-008, IS08-390-009 | SFPP, L.P.
G-4 | IS09-437-008, IS09-437-009, IS09-437-010, IS10-572-005, IS10-572-006, IS10-572-007 | SFPP, L.P.
G-5 | IS11-444-002 | SFPP, L.P.
G-6 | OR11-13-000 | ConocoPhillips Company v. SFPP, L.P.
| OR11-16-000 | Chevron Products Company v. SFPP, L.P.
| OR11-18-000 | Tesoro Refining and Marketing Company v. SFPP, L.P.
G-7 | OR14-35-002 | HollyFrontier Refining & Marketing LLC,
|  | Southwest Airlines Co.,
|  | Tesoro Refining and Marketing Company,
|  | US Airways, Inc.,
|  | Valero Marketing and Supply Company, and
|  | Western Refining Company, L.P. v. SFPP, L.P.
| OR14-36-002 | Chevron Products Company v. SFPP, L.P.
G-8 | RP18-442-000 | Dominion Energy Overthrust Pipeline, LLC.
G-9 | RP18-441-000 | Midwestern Gas Transmission Company.
G-10 | OR18-8-000 | Blue Racer NGL Pipelines, LLC.
HYDRO
H-1 | P-2114-293 | Public Utility District No. 2 of Grant County, Washington.
H-2 | P-2082-062, P-14803-000 | PacifiCorp.
H-3 | P-2426-229 | California Department of Water Resources and Los Angeles Department of Water and Power.
H-4 | P-13762-003 | FFP Missouri 15, LLC.
| P-13753-003 | FFP Missouri 16, LLC.
H-5 | P-2485-074, P-1889-086 | FirstLight Hydro Generating Company.
CERTIFICATES
C-1 | CP17-409-000 | DTE Midstream Appalachia, LLC.
C-2 | OMITTED.
C-3 | CP17-74-000 | National Fuel Gas Supply Corporation.

Dated: March 8, 2018.
Kimberly D. Bose,
Secretary.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-05103 Filed 3-9-18; 11:15 am]

BILLING CODE 6717-01-P